SURFACE TRANSPORTATION BOARD

[Docket No. FD 36356]

Vicksburg Southern Railroad, L.L.C.—Lease and Operation Exemption—The Kansas City Southern Railway Company

Vicksburg Southern Railroad, L.L.C. (VSOR), a Class III rail carrier, has filed a verified notice of exemption under 49 CFR 1150.41 to continue to lease and operate from The Kansas City Southern Railway Company (KCS) approximately 21.7 miles of rail line on the Redwood Branch, consisting of two segments (the Lines): (1) Between milepost 21.9, at the end of the line near Redwood, Miss., and milepost 220.3, north of KCS's Vicksburg Yard, at Vicksburg, Miss.; and (2) between milepost 223.0, south of the connection with the KCS main line, and milepost 225.6 at Vicksburg.

According to the verified notice, VSOR has operated the Lines since 2006. See Vicksburg S. R.R.—Lease & Operation Exemption—Kan. City S. Ry., FD 34765 (STB served Jan. 13, 2006). VSOR and KCS entered into an amended and restated lease in 2017 (Restated Lease), which currently governs VSOR's lease and operation of the Lines. See Vicksburg S. R.R.—Lease & Operation Exemption—Kan. City S. Ry., FD 36128 (STB served Dec. 7, 2017). The verified notice states that VSOR and KCS executed an amendment on July 20, 2020 (Amendment) to the Restated Lease. The Amendment extends the terms of the Restated Lease until November 30, 2034. According to VSOR, the Amendment does not contain a provision that prohibits VSOR from interchanging traffic with a third party or limits VSOR's ability to interchange with a third party.

VSOR certifies that its projected annual revenues as a result of this transaction will not exceed $5 million and will not result in the creation of a Class I or Class II rail carrier.

The earliest this transaction may be consummated is March 27, 2021, the effective date of the exemption (30 days after the verified notice was filed).¹

¹ VSOR initially submitted its verified notice on February 23, 2021. On February 25, 2021, VSOR filed a supplement; therefore, February 25 is deemed the filing date of the verified notice.

If the notice contains false or misleading information, the exemption is void ab initio. Petitions to revoke the exemption under 49 U.S.C. 10502(d) may be filed at any time. The filing of a petition to revoke will not automatically stay the effectiveness of the exemption. Petitions for stay must be filed no later than March 19, 2021.

All pleadings, referring to Docket No. FD 36356, should be filed with the Surface Transportation Board via e-filing on the Board's website. In addition, a copy of each pleading must be served on VSOR's representative, Bradon J. Smith, Fletcher & Sippel LLC, 29 North Wacker Drive, Suite 800, Chicago, IL 60606.

According to VSOR, this action is categorically excluded from environmental review under 49 CFR 1105.6(c) and from historic preservation reporting requirements under 49 CFR 1105.8(b).

Board decisions and notices are available at www.stb.gov.

Decided: March 8, 2021.
By the Board, Allison C. Davis, Director, Office of Proceedings.
Tammy Lowery,
Clearance Clerk.

[FR Doc. 2021-05127 Filed 3-11-21; 8:45 am]

BILLING CODE 4915-01-P